DEPARTMENT OF TRANSPORTATION

Research and Special Programs Administration

49 CFR Part 192

[Docket No. RSPA-00-7666; Notice 5]

RIN 2137-AD54

Pipeline Safety: Pipeline Integrity Management in High Consequence Areas (Gas Transmission Pipelines)

AGENCY: Office of Pipeline Safety (OPS), Research and Special Programs Administration (RSPA), DOT.

ACTION: Proposed rule; notice of extension of comment period.

SUMMARY: This notice extends the period for comment on the notice of proposed rulemaking published in the Federal Register on January 28, 2003 (68 FR 4278), from March 31, 2003, to April 30, 2003. The proposed rule requires operators to develop integrity management programs for gas transmission pipelines that, in the event of a failure, could impact high consequence areas (HCAs).

DATES: The comment period for interested persons to submit written comments on the proposed gas pipeline integrity management rule ends April 30, 2003.

ADDRESSES:

Filing Information

You may submit written comments by mail or delivery to the Dockets Facility, U.S. Department of Transportation, Room PL-401, 400 Seventh Street, SW., Washington, DC 20590-0001. It is open from 10 a.m. to 5 p.m., Monday through Friday, except Federal holidays. All written comments should identify the docket and notice numbers stated in the heading of this notice. Anyone desiring confirmation of mailed comments must include a self-addressed stamped postcard.

Electronic Access

You may also submit written comments to the docket electronically. To submit comments electronically, access the following Internet Web address: http://dms.dot.gov. Click on “Help & Information” for instructions on how to file a document electronically.

Privacy Act Information

Anyone is able to search the electronic form of all comments received into any of our dockets by the name of the individual submitting the comment (or signing the comment, if submitted on behalf of an association, business, labor union, etc.). You may review DOT's complete Privacy Act Statement in the Federal Register published on April 11, 2000 (volume 65, number 70; pages 19477-78), or you may visit http://dms.dot.gov.

General Information

You may contact the Dockets Facility by phone at (202) 366-9329, for copies of this proposed rule or other material in the docket. All materials in this docket may be accessed electronically at http://dms.dot.gov/search. Once you access this address, type in the last four digits of the docket number shown at the beginning of this notice (in this case 7666), and click on search. You will then be connected to all relevant information.

FOR FURTHER INFORMATION CONTACT: Mike Israni by phone at (202) 366-4571, by fax at (202) 366-4566, or by e-mail at mike.israni@rspa.dot.gov, regarding the subject matter of this proposed rule. General information about the RSPA/OPS programs may be obtained by accessing RSPA's Internet page at http://RSPA.dot.gov.

SUPPLEMENTARY INFORMATION: RSPA/OPS published a proposed rule on pipeline integrity management in high consequence areas for gas transmission pipelines on January 28, 2003 (68 FR 4278). That notice provided a 60-day comment period ending on March 31, 2003. By petition dated March 6, 2003, the American Gas Association (AGA), the American Public Gas Association (APGA), and the Interstate Natural Gas Association of America (INGAA) requested that the comment period be extended by 60 days, from March 31, 2003, to May 30, 2003.

In the petition, the associations argue that because the proposed rule is lengthy and complex, additional time is necessary to analyze the proposal and prepare comments. The petition also refers to the public meeting on March 14, 2003, where OPS will discuss the proposed rule. The associations maintain it will take time for them to inform their member companies about the discussions at the meeting so that the companies can use the information in developing their comments.

RSPA/OPS has decided to extend the comment period in light of the request and the complexity of this proposed rule. RSPA/OPS does not consider that a 60-day extension is necessary. A statutory requirement (Pipeline Safety Improvement Act of 2002, 49 U.S.C. 60109(c)) requires us to publish the final rule by December 17, 2003. A 60-day extension of the comment period would not allow us to meet this statutory deadline. A 30-day extension provides 45 days after the public meeting for interested parties to submit comments.

RSPA/OPS believes that an extension of the comment period by 30 days from the existing closing date (March 31, 2003) is reasonable; the comment period is hereby extended to April 30, 2003.

Issued in Washington, DC on March 13, 2003.
Stacey L. Gerard,
Associate Administrator for Pipeline Safety.

[FR Doc. 03-6626 Filed 3-18-03; 8:45 am]

BILLING CODE 4910-60-P